DEPARTMENT OF HEALTH AND HUMAN SERVICES

Substance Abuse and Mental Health Services Administration

Agency Information Collection Activities: Proposed Collection; Comment Request

In compliance with Section 3506(c)(2)(A) of the Paperwork Reduction Act of 1995 concerning opportunity for public comment on proposed collections of information, the Substance Abuse and Mental Health Services Administration (SAMHSA) will publish periodic summaries of proposed projects. To request more information on the proposed projects or to obtain a copy of the information collection plans, call the SAMHSA Reports Clearance Officer on (240) 276-1243.

Comments are invited on: (a) Whether the proposed collections of information are necessary for the proper performance of the functions of the agency, including whether the information shall have practical utility; (b) the accuracy of the agency's estimate of the burden of the proposed collection of information; (c) ways to enhance the quality, utility, and clarity of the information to be collected; and (d) ways to minimize the burden of the collection of information on respondents, including through the use of automated collection techniques or other forms of information technology.

Proposed Project: National System of Care Expansion Evaluation—NEW

The Substance Abuse and Mental Health Services Administration (SAMHSA), Center for Mental Health Services (CMHS) is requesting approval from the Office of Management and Budget (OMB) for the new collection of data for the National System of Care (SOC) Expansion Evaluation.

Evaluation Plan and Data Collection Activities. The purpose of the National SOC Expansion Evaluation is to assess the success of the SOC expansion planning and implementation grants in expanding the reach of SOC values, principles, and practices. These include maximizing system-level coordination and planning, offering a comprehensive array of services, and prioritizing family and youth involvement. In order to obtain a clear picture of SOC expansion grant activities, this longitudinal, multi-level evaluation will measure activities and performance of grantees at three levels essential to building and sustaining effective SOCs. The three levels are: jurisdiction, local system, and child and family levels.

Data collection activities will occur through four evaluation components. Each component includes data collection activities and analyses involving similar topics. Each component has multiple instruments that will be used to address various aspects. Thus, there are a total of eight new instruments that will be used to conduct this evaluation. All four evaluation components involve collecting data from implementation grantees, but only the Implementation assessment includes data collection from planning grantees as well.

The four studies with their corresponding data collection activities are as follows:

(1) The Implementation assessment will document the development and expansion of SOCs. Data collection activities include: (a) Stakeholder Interviews with high-level administrators, youth and family representatives, and child agencies to describe the early implementation and expansion efforts of planning and implementation grants, (b) the web-based Self-Assessment of Implementation Survey to assess SOC implementation and expansion at the jurisdictional level over time, and (c) the SOC Expansion Assessment (SOCEA) administered to local providers, managers, clients, and their caregivers to measure SOC expansion strategies and processes implemented related to direct service delivery at the local system level. Implementation grantees will participate in all three of the Implementation assessment data collection activities. Planning grantee participation will be limited to the Stakeholder Interview and the Self-Assessment of Implementation Survey.

(2) The Network Analysis will use Network Analysis Surveys to determine the depth and breadth of the SOC collaboration across agencies and organization. Separate network analysis surveys will be administered at the jurisdiction and local service system levels. The Geographic Information System (GIS) Component will measure the geographic coverage and spread of the SOC, including reaching underserved areas and populations. At the jurisdictional and local service system levels, the GIS component will use office and business addresses of attendees to key planning, implementation and expansion events. At the child/youth and family level, Census block groups (derived from home addresses) will be used to depict the geographic spread of populations served by SOCs.

(3) The Financial Mapping Component involves the review of implementation grantees' progress in developing financial sustainability and expansion plans. The Financial Mapping Interview will be conducted with financial administrators of Medicaid Agencies, Mental Health Authorities, mental health provider trade associations, and family organizations. The Benchmark Component will compare relative rates of access, utilization, and costs for children's mental health services using the Benchmarking Tool and administrative data requested from financial administrators and personnel working with Medicaid Agency and Mental Health Authority reporting and payment systems.

(4) The Child and Family Outcome Component will collect longitudinal data on child clinical and functional outcomes, family outcomes, and child and family background. Data will be collected at intake, 6-months, and 12-months post service entry (as long as the child/youth is still receiving services). Data will also be collected at discharge if the child/youth leaves services before the 12-month data collection point. Data will be collected using the following scales: (a) A shortened version of the Caregiver Strain Questionnaire, (b) the Columbia Impairment Scale, (c) the Pediatric Symptom Checklist-17, (d) Family/Living Situation items, and (e) background information gathered through the Common Data Platform (CDP). Although OMB approval for the CPD has been sought separately under an unrelated contract, this data collection will include both youth age 11 to 17 and their caregivers whereas CDP includes only one of these respondents (i.e., youth or caregiver).

Estimated Burden. Data will be collected from approximately 56 planning and 107 implementation grants, 214 local systems within the implementation grant jurisdictions. Data collection for this evaluation will be conducted over a 4-year period.

The average annual respondent burden estimate reflects the average number of respondents in each respondent category, the average number of responses per respondent per year, the average length of time it will take to complete each response, and the total average annual burden for each category of respondent for all categories of respondents combined. Table 1 shows the estimated annual burden estimate by instrument and respondent. Burden is summarized in Table 2.

Table 1—Estimated Average Annual Burden
Instrument/ data collection activity | Respondent | Number of respondents | Responses per respondent | Total number of responses | Hours per response | Total annual burden hours
Implementation Assessment
Stakeholder Interview ᵃ | Project Director | 54 | 1 | 54 | 1.3 | 72
| Family Organization Representative | 54 | 1 | 54 | 1.3 | 72
| Youth Organization Representative | 54 | 1 | 54 | 1.2 | 64
| Core Agency Partners ᵇ | 272 | 1 | 272 | 1.0 | 272
SAIS ᵃ | Grant leadership | 815 | 1.89 | 1,540 | 0.82 | 1,258
SOCEA | Project Director & Representatives from Family & Youth Organizations | 214 | 1 | 290 | 1.5 | 435
| Core Agency Rep, Service Providers | 870 | 1 | 870 | 1 | 1,077
| Care Coordinators Caregivers Clients 11-21 | 193 193 193 | 1 1 1 | 193 193 193 | 1.7 0.75 0.5 | 329 214 97
Network Analysis Survey
Jurisdiction | Grant leadership | 357 | 1 | 357 | 0.4 | 149
Local system | Local providers of direct services | 713 | 1 | 713 | 0.4 | 297
GIS Component: Group Collaborative Events for GIS Analysis Form
Jurisdiction | Grant administrator/Project Director | 107 | 4 | 428 | 0.25 | 107
Local system | Local administrator/Project Director | 214 | 4 | 856 | 0.25 | 214
Financial Mapping and Benchmark Components
Financial Mapping Interview | Financial administrators at: Medicaid Agencies & MH Authorities | 99 | 1 | 99 | 2.0 | 221
| Financial administrators at: Trade associations & Family organizations | 33 | 1 | 33 | 1.5 | 53
Benchmark Tool | Payment/reporting personnel at: Medicaid Agencies & MH Authorities | 24 | 1 | 24 | 40.0 | 960
Child and Family Outcome Component
Background Information (CDP) ᶜ | Caregivers of clients age 11-17 ᵈ | 1,283 | ᵉ 2.12 | 2,720 | 0.37 | 998
| Clients age 11-17 | 1,283 | 2.12 | 2,720 | 0.37 | 998
Family/Living Information | Caregivers of clients age 5-17 ᶠ | 6,454 | 2.12 | 13,683 | .05 | 684
| Clients age 18-21 ᵍ | 1,322 | 2.12 | 2,802 | .05 | 140
Caregiver Strain Questionnaire—Short Form | Caregivers of clients age 5-17 | 6,454 | 2.12 | 13,683 | 0.12 | 1,642
Columbia Impairment Scale | Caregivers of clients age 5-17 | 6,454 | 2.12 | 13,683 | 0.08 | 1,095
| Clients age 11-21 ʰ | 3,888 | 2.12 | 8,243 | 0.08 | 659
Pediatric Symptom Checklist—17 | Caregivers of clients age 5-17 | 6,454 | 2.12 | 13,683 | 0.05 | 684
| Clients age 11-21 | 3,888 | 2.12 | 8,243 | 0.05 | 412
Client record review | Site staff | 56 | 407 | 22,794 | 0.21 | 4,787
Total Annual Burden
All | All | 14,423 |  | 108,477 |  | 17,989
ᵃ Burden includes planning and implementation grantees.
ᵇ Core agency partners include (1) representatives from MH, child welfare, and juvenile justice and (2) CMHI quality monitors.
ᶜ OMB clearance sought for CDP is limited to the added burden for a second respondent (Caregiver OR Client age 11 to 17). For clients age 11 to 17, CDP only collects information from either Caregivers OR youth. In addition, clearance is requested for the burden only as OMB approval of CDP has been sought separately.
ᵈ Assumes 33% of clients will be age 11 to 17 and that the additional CDP interview for clients age 11 to 17 and their caregiver will be evenly split between clients and caregivers. Evaluation design requires all participating clients age 5 to 17 to have a caregiver participating in the evaluation.
ᵉ Accounts for attrition.
ᶠ Assumes 83% of clients will be age 5 to 17.
ᵍ Assumes 17% of clients will be age 18 to 21.
ʰ Assumes 50% of clients will be age 11 to 21.

Table 2—Total Estimated Annual Burden
Instrument/data collection activity | Number of respondents | Total number of responses | Average annual burden (hours)
Stakeholder Interview | 435 | 435 | 479
SAIS | 815 | 1,540 | 1,258
SOCEA | 1,284 | 1,740 | 2,151
Network analysis survey | 1,070 | 1,070 | 446
GIS | 321 | 1,284 | 321
Financial mapping interview | 132 | 132 | 274
Benchmark Tool | 24 | 24 | 960
Child and family tools (respondent & staff burden) | 10,342 | 102,253 | 12,100
Total | 14,423 | 108,477 | 17,989

Send comments to Summer King, SAMHSA Reports Clearance Officer, Room 2-1057, One Choke Cherry Road, Rockville, MD 20857 or email her a copy at summer.king@samhsa.hhs.gov. Written comments should be received by December 1, 2014.

Summer King,
Statistician.

[FR Doc. 2014-23454 Filed 10-1-14; 8:45 am]

BILLING CODE 4162-20-P